DEPARTMENT OF HEALTH AND HUMAN SERVICES

National Institutes of Health

Center for Scientific Review; Amended Notice of Meeting

Notice is hereby given of a change in the meeting of the Nursing and Related Clinical Sciences Study Section, June 7, 2011, 8 a.m. to June 9, 2011, 5 p.m., Sheraton Delfina Santa Monica Hotel, 530 West Pico Boulevard, Santa Monica, CA, 90405 which was published in the Federal Register on April 29, 2011, 76 FR 24036-24038.

The meeting will be held June 7, 2011 to June 8, 2011. The meeting time and location remain the same. The meeting is closed to the public.

Dated: May 6, 2011.
Jennifer S. Spaeth,
Director, Office of Federal Advisory Committee Policy.

[FR Doc. 2011-11780 Filed 5-12-11; 8:45 am]

BILLING CODE 4140-01-P